DEPARTMENT OF HEALTH AND HUMAN SERVICES

Centers for Disease Control and Prevention

[Program Announcement 02002]

Grants for Rape Prevention and Education

AGENCY: Centers for Disease Control and Prevention (CDC), Department of Health and Human Services (DHHS).

ACTION: Notice of the availability of fiscal year 2002 funds and request for comments.

SUMMARY: The Centers for Disease Control and Prevention (CDC) announces the availability of fiscal year (FY) 2002 funds for targeted grants to state health departments to support programs addressing violence against women. The Rape Prevention and Education Grant Program strengthens education and training to combat violence against women by supporting increased awareness, education and training, and the operation of hotlines. CDC will award targeted grants to State Health Departments to be used for rape prevention and education programs conducted by rape crisis centers, State sexual assault coalitions, and other public and private nonprofit entities.

Assistance will be provided only to the health departments of States or their bona fide agents who are current recipients of Rape Prevention and Education funding, including: the District of Columbia, the Commonwealth of Puerto Rico, the Virgin Islands, the Commonwealth of the Northern Mariana Islands, American Samoa, Guam, the Federated States of Micronesia, the Republic of the Marshall Islands, and the Republic of Palau. Approximately $42,000,000 is available in FY 2002, for funding under this formula-based grant program.

It is expected that the awards will begin on or about October 1, 2001, and will be made for a 12-month budget period within a project period of up to five years. Continuation awards will be made within the project period based on satisfactory progress reflected in the annual continuation application.

States must adhere to Congressional legislation regarding the allowable uses for these funds. Not more than five percent (exclusive of Direct Assistance) of any grant or contract through the grant may be obligated for administrative costs. This five percent limitation is in lieu of, and replaces, the indirect cost rate. Targeted grants to States are to be used for rape prevention and education programs conducted by rape crisis centers, State sexual assault coalitions, and other public and private nonprofit entities for: educational seminars; the operation of hotlines; training programs for professionals; the preparation of informational material; education and training programs for students and campus personnel designed to reduce the incidence of sexual assault at colleges and universities; education to increase awareness about drugs used to facilitate rapes or sexual assault; and other efforts to increase awareness of the facts about or to help prevent sexual assault, including efforts to increase awareness in underserved communities and awareness among individuals with disabilities (as defined in section 3 of the Americans with Disabilities Act of 1990 (42 U.S.C. 12102)).

A State may not use more than two percent of the amount received for each fiscal year for surveillance studies or prevalence studies. Amounts provided to States must be used to supplement, and not supplant, other Federal, State, and local public funds expended to provide the services described above. Grant funds cannot be used for construction, renovation, the lease of passenger vehicles, the development of major software applications, or supplanting current applicant expenditures.

The National Center for Injury Prevention and Control of CDC will provide information on submitting applications via the Rape Prevention and Education Version of the Grant Application and Reporting System (RPE-GARS).

DATES: Awards will begin on or about October 1, 2001, and will be made for a 12-month budget period within a project period of up to five years.

Comments are due June 4, 2001.

ADDRESSES: Interested persons are invited to comment on the proposed program. All comments received on or before June 4, 2001 will be considered before the final program announcement is published. Address comments to: Wendy Watkins, Division of Violence Prevention, National Center for Injury Prevention and Control, Centers for Disease Control and Prevention (CDC), 4770 Buford Highway, NE, Mailstop K-58, Atlanta, GA 30341-3724, Telephone (770) 488-1567, Internet address: dmw7@cdc.gov.

FOR FURTHER INFORMATION CONTACT: Wendy Watkins, Division of Violence Prevention, National Center for Injury Prevention and Control, Centers for Disease Control and Prevention (CDC), 4770 Buford Highway, NE, Mailstop K-58, Atlanta, GA 30341-3724, Telephone (770) 488-1567, Internet address: dmw7@cdc.gov.

Dated: April 27, 2001.
Joseph R. Carter,
Associate Director for Management and Operations,, Centers for Disease Control and Prevention (CDC).

[FR Doc. 01-11068 Filed 5-2-01; 8:45 am]

BILLING CODE 4163-18-P